DEPARTMENT OF COMMERCE

Foreign-Trade Zones Board

[Docket No. 46-2003]

Pepsi-Cola Manufacturing International, Ltd.—Subzone 61J, Cidra, Puerto Rico; Application for Expansion of Scope of Manufacturing Authority Amendment of Application

Notice is hereby given that the application by the Puerto Rico Exports Development Corporation (68 FR 54888, 9-19-2003), grantee of FTZ 61, on behalf of Pepsi-Cola Manufacturing International, Ltd. (PCMIL), operator of FTZ 61J, requesting an expansion of the scope of manufacturing authority to include additional finished products and manufacturing capacity under FTZ procedures at the PCMIL soft drink and juice beverage concentrate manufacturing plant, has been amended to alter the proposed scope of authority regarding the use of foreign-origin orange juice and grapefruit juice concentrates. As a result of consultations with interested parties within domestic industry, PCMIL has amended the proposed scope of authority regarding foreign ingredients by indicating that all foreign-origin orange juice and grapefruit juice (classified under HTSUS Heading 2009) to be used in the manufacture of juice beverage concentrate products under FTZ procedures would be admitted to Subzone 61J under privileged foreign status (19 CFR 146.41), thereby deleting inverted tariff savings on these products from the proposed FTZ benefits. The application remains otherwise unchanged.

A copy of the amended application will be available for public inspection at the Office of the Foreign-Trade Zones Board's Executive Secretary at the Franklin Court Building—Suite 4100W, 1099 14th Street, NW., Washington, DC 20005. The comment period is reopened until October 6, 2004.

Dated: September 2, 2004.
Dennis Puccinelli,
Executive Secretary.

[FR Doc. 04-20465 Filed 9-8-04; 8:45 am]

BILLING CODE 3510-DS-P